DEPARTMENT OF TRANSPORTATION

Federal Aviation Administration

Notice of Intent To Release Certain Properties From All Terms, Conditions, Reservations and Restrictions of a Quitclaim Deed Agreement Between the City of Orlando and the Federal Aviation Administration for the Orlando International Airport, Orlando, FL

AGENCY: Federal Aviation Administration (FAA), DOT.

ACTION: Request for public comment.

SUMMARY: The FAA hereby provides notice of intent to release approximately 44.30 acres at the Orlando International Airport, Orlando, FL from the conditions, reservations, and restrictions as contained in a Quitclaim Deed agreement between the FAA and the City of Orlando, dated September 27,1976. The release of property will allow the City of Orlando to dispose of the property for other than aeronautical purposes. The property is located along the south side of SR 528 (Beachline), curves south at Semoran Blvd./Jeff Fuqua Blvd., and continues to an area located to the north of Boggy Creek Road within the Orlando International Airport. The parcels are currently designated as non-aeronautical use. The property will be released of its federal obligations to grant an easement for multimodal transportation corridor purposes. The fair market value of this parcel has been determined to be $12,549,000. Documents reflecting the Sponsor's request are available, by appointment only, for inspection at the Greater Orlando Aviation Authority at Orlando International Airport and the FAA Airports District Office.

DATES: Comments are due on or before September 14, 2015.

ADDRESSES: Documents are available for review at the Greater Orlando Aviation Authority at Orlando International Airport, and the FAA Airports District Office, 5950 Hazeltine National Drive, Suite 400, Orlando, FL 32822. Written comments on the Sponsor's request must be delivered or mailed to: Marisol C. Elliott, Program Manager, Orlando Airports District Office, 5950 Hazeltine National Drive, Suite 400, Orlando, FL 32822-5024.

FOR FURTHER INFORMATION CONTACT: Marisol C. Elliott, Program Manager, Orlando Airports District Office, 5950 Hazeltine National Drive, Suite 400, Orlando, FL 32822-5024.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

Issued in Orlando, Florida on August 7, 2015.
Bart Vernace,
Manager, Orlando Airports District Office, Southern Region.

[FR Doc. 2015-19955 Filed 8-12-15; 8:45 a.m.]

BILLING CODE 4910-13-P